BUREAU OF CONSUMER FINANCIAL PROTECTION

Publication of FY 2013 Service Contract Inventory

AGENCY: Bureau of Consumer Financial Protection.

ACTION: Notice of public availability of FY 2013 Service Contract Inventory.

SUMMARY: In accordance with Section 743 of Division C of the Consolidated Appropriations Act of 2010, the Bureau of Consumer Financial Protection (Bureau) is publishing this notice to advise the public of the availability of the FY 2013 Service Contract Inventory. This inventory provides information on service contract actions over $25,000, which the Bureau awarded during FY 2013. The information is organized by function to show how contracted resources were used by the agency to support its mission. The inventory has been developed in accordance with the guidance issued on November 5, 2010 and December 19, 2011 by the Office of Management and Budget's Office of Federal Procurement Policy (OFPP). OFPP's guidance is available at: http://www.whitehouse.gov/sites/default/files/omb/procurement/memo/service-contract-inventories-guidance-11052010.pdf and http://www.whitehouse.gov/sites/default/files/omb/procurement/memo/service-contract-inventory-guidance.pdf. The Bureau has posted its inventory and a summary of the inventory on the Bureau's “Open government” homepage at the following link: http://www.consumerfinance.gov/open/, specifically at http://files.consumerfinance.gov/f/201312_cfpb_worksheet_service-contract-inventory.pdf and http://files.consumerfinance.gov/f/201312_cfpb_summary_service-contract-inventory.pdf.

FOR FURTHER INFORMATION CONTACT: Questions regarding the service contract inventory should be directed to Hoa Crews, Senior Procurement Analyst, Office of Procurement, Consumer Financial Protection Bureau, (202) 435-7422.

Dated: March 13, 2014.
Richard Cordray,
Director, Bureau of Consumer Financial Protection.

[FR Doc. 2014-06299 Filed 3-21-14; 8:45 am]

BILLING CODE 4810-AM-P